DEPARTMENT OF DEFENSE

Office of the Secretary

[Docket ID: DoD-2013-OS-0238]

Proposed Collection; Comment Request

AGENCY: Office of the Undersecretary of Defense for Personnel & Readiness, DoD.

ACTION: Notice.

SUMMARY: In compliance with Section 3506(c)(2)(A) of the Paperwork Reduction Act of 1995, the Office of the Undersecretary of Defense for Personnel & Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 3, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to Director, Military Community Outreach, Military Community and Family Policy, 4000 Defense Pentagon Room 2E355, Washington, DC 20301-2400 ATTN: Ms. Beth Riffle, or 703-695-3265.

SUPPLEMENTARY INFORMATION:

Title; Associated Form; and OMB Control Number: Military OneSource Case Management System (CMS)—Satisfaction Feedback; Military OneSource Member Survey (Counseling, Health & Wellness Coaching, Educational Materials, Document Translation, Financial, Work Life, Wounded Warrior); OMB Control Number 0704-XXXX.

Needs and Uses: The information collection requirement is necessary to support the Military OneSource Case Management System contract mandated Quality Control Plan (QCP) which requires a process to capture participant quality satisfaction feedback. Key quality factors include but are not limited to appropriateness, effectiveness, successful outcomes and any or all of the dimensions of quality such as accessibility, availability, efficiency, continuity, safety, timeliness and respectfulness. Council on Accreditation (COA) or URAC guidance for sample size and confidence levels shall be followed at a minimum.

Affected Public: Individuals or households; Federal Government.

Annual Burden Hours: 1,000.

Number of Respondents: 10,000.

Responses per Respondent: 1.

Average Burden per Response: 6 minutes.

Frequency: On occasion.

Respondents are military service members and their families who accessed Military OneSource for support for an inquiry or issue and agreed to provide satisfaction feedback. Respondent feedback is captured using two methods: An outreach call or via an email containing a link to the feedback Web site. When outreach calls are made, respondents are interviewed and a staff person enters those responses into a feedback form. Respondents may also elect to complete feedback via an electronic form, which is emailed to the respondent. All respondents who contact Military OneSource are asked to provide feedback about their Military OneSource experience, though on average only about 1-2% of respondents provide feedback.

Dated: December 27, 2013.
Aaron Siegel,
Alternate OSD Federal Register Liaison Officer, Department of Defense.

[FR Doc. 2013-31393 Filed 12-31-13; 8:45 am]

BILLING CODE 5001-06-P